DEPARTMENT OF HOMELAND SECURITY

Coast Guard

33 CFR Part 117

[Docket No. USCG-2018-0298]

Drawbridge Operation Regulation; Harlem River, Bronx, New York

AGENCY: Coast Guard, DHS.

ACTION: Notice of deviation from drawbridge regulation.

SUMMARY: The Coast Guard has issued a temporary deviation from the operating schedule that governs the Broadway Bridge across the Harlem River, mile 6.8, at Bronx, New York. This temporary deviation is necessary to allow the bridge to remain in the closed-to-navigation position to facilitate the replacement of track panels.

DATES: This deviation is effective from 6 a.m. on April 28, 2018, to 5 p.m. on May 13, 2018.

ADDRESSES: The docket for this deviation, USCG-2018-0298 is available at http://www.regulations.gov. Type the docket number in the “SEARCH” box and click “SEARCH.” Click on Open Docket Folder on the line associated with this deviation.

FOR FURTHER INFORMATION CONTACT: If you have questions on this temporary deviation, call or email Judy Leung-Yee, Project Officer, First Coast Guard District, telephone 212-514-4330, email Judy.K.Leung-yee@uscg.mil.

SUPPLEMENTARY INFORMATION: New York City Transit, the owner of the bridge, requested a temporary deviation from the normal operating schedule to facilitate the replacement of track panels. The Broadway Bridge across the Harlem River, mile 6.8, has a vertical clearance in the closed position of 24 feet at mean high water and 29 feet at mean low water. The existing bridge operating regulations are listed at 33 CFR 117.789(b)(1).

Under this temporary deviation, the Broadway Bridge shall remain in the closed position between 6 a.m. and 7 p.m. on April 28, May 5 and May 12, 2018; and between 6 a.m. and 5 p.m. on April 29, May 6 and May 13, 2018.

The waterway is transited by commercial and recreational traffic. The Coast Guard notified known commercial vessel operators that transit the area, including the Sandy Hook Pilots and the local Tug/Tow Committee; there were no objections to this temporary deviation. Vessels able to pass under the bridge in the closed position may do so at any time. The bridge will not be able to open for emergencies and there is no immediate alternate route for vessels to pass.

The Coast Guard will inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 17, 2018
Christopher J. Bisignano,
Supervisory Bridge Management Specialist, First Coast Guard District.

[FR Doc. 2018-08372 Filed 4-20-18; 8:45 am]

BILLING CODE 9110-04-P